DEPARTMENT OF JUSTICE

Notice of Lodging of Consent Decree Under the Clean Air Act; Clean Water Act; Resource Conservation and Recovery Act; Safe Drinking Water Act; Toxic Substances Control Act; and the Reporting Requirements of the Emergency Planning and Community Right-To-Know Act and the Comprehensive Environmental Response, Compensation, and Liability Act

Notice is hereby given that on July 14, 2010, a proposed Consent Decree in United States et al. v. McWane, Inc., Civil Action No. CV-10-JEO-1902-S was lodged with the United States District Court for the Northern District of Alabama.

In this action the United States sought injunctive relief and civil penalties for violations of the Clean Air Act, 42 U.S.C. 7401 to 7671q (“CAA”); Clean Water Act, 33 U.S.C. 1311 to 1387 (“CWA”); Resource Conservation and Recovery Act (“RCRA”), 42 U.S.C. 6901 to 6992k; Safe Drinking Water Act (“SDWA”), 42 U.S.C. 300f to 300j-26; Toxic Substances Control Act (“TSCA”), 15 U.S.C. 2601 to 2692, and the reporting requirements of the Emergency Planning and Community Right-to-Know Act, 42 U.S.C. 11001 to 11050 (“EPCRA”); Comprehensive Environmental Response, Compensation, and Liability Act (“CERCLA”), 42 U.S.C. 9601 et seq., together with their implementing regulations and permits, at twenty-eight of McWane's facilities in fourteen states. McWane, Inc. is a national company operating iron foundries, brass foundries, and various valve and tank manufacturing facilities. McWane's major plants by industry include four pipe plants, four valve and hydrant plants, seven soil pipe and utility fittings plants, seven tank manufacturing plants and one fire extinguisher plant. Most of these facilities operate under trade names, including Tyler Pipe, Manchester Tank, Pacific States, Kennedy Valve, M & H Valve, Clow, Ransom Industries, Union Foundry, Empire Coke Company, Amerex Corporation, Atlantic States, and Anaco. The Alabama Department of Environmental Management and the State of Iowa are co-plaintiffs in this action.

Under the proposed Consent Decree, McWane will pay a civil penalty of $4,000,000 (to be divided among the United States, Alabama and Iowa), implement a slate of Supplemental Environmental Projects at a cost of $9,154,050, and complete the final evaluation of a comprehensive, corporate-wide Environmental Management System (EMS) at all of its facilities. McWane has already undertaken corrective measures to resolve all the violations alleged in the Complaint, at a cost of over $7.6 million. The proposed Consent Decree resolves only the specific violations alleged in the Complaint.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. McWane, Inc., D.J. Ref. 90-5-1-1-08282.

The Consent Decree may be examined at the Office of the United States Attorney for the Northern District of Alabama, 1801 4th Avenue North, Birmingham, Alabama 35203-2101, and at the following U.S. EPA Regions: Region 1 (CT, MA, ME, NH, RI, VT), Environmental Protection Agency, 5 Post Office Square—Suite 100, Boston, MA 02109-3912, Phone: (617) 918-1111, Fax: (617) 918-1809, Toll free within Region 1: (888) 372-7341.

Region 2 (NJ, NY, PR, VI), Environmental Protection Agency, 290 Broadway, New York, NY 10007-1866, Phone: (212) 637-3000, Fax: (212) 637-3526.

Region 3 (DC, DE, MD, PA, VA, WV), Environmental Protection Agency, 1650 Arch Street, Philadelphia, PA 19103-2029, Phone: (215) 814-5000, Fax: (215) 814-5103, Toll free: (800) 438-2474.

Region 4 (AL, FL, GA, KY, MS, NC, SC, TN), Environmental Protection Agency, Atlanta Federal Center, 61 Forsyth Street, SW., Atlanta, GA 30303-3104, Phone: (404) 562-9900, Fax: (404) 562-8174, Toll free: (800) 241-1754.

Region 5 (IL, IN, MI, MN, OH, WI), Environmental Protection Agency, 77 West Jackson Boulevard, Chicago, IL 60604-3507, Phone: (312) 353-2000 Fax: (312) 353-4135, Toll free within Region 5: (800) 621-8431

Region 6 (AR, LA, NM, OK, TX), 1445 Ross Avenue, Dallas, TX 75202-2733, Phone: (214) 665-2200, Fax: (214) 665-7113, Toll free within Region 6: (800) 887-6063).

Region 7 (IA, KS, MO, NE), Environmental Protection Agency, 901 North 5th Street, Kansas City, KS 66101, Phone: (913) 551-7003, Toll free: (800) 223-0425.

Region 8 (CO, MT, ND, SD, UT,WY), Environmental Protection Agency, 1595 Wynkoop St., Denver, CO 80202-1129, Phone: (303) 312-6312, Fax: (303) 312-6339.

Region 9 (AZ, CA, HI, NV), Environmental Protection Agency, 75 Hawthorne Street, San Francisco, CA 94105, Phone: (415) 947-8000, (866) EPA-WEST (toll free in Region 9), Fax: (415) 947-3553.

Region 10 (AK, ID, OR, WA), Environmental Protection Agency, 1200 Sixth Avenue, Suite 900, Seattle, WA 98101, Phone: (206) 553-1200, Fax: (206) 553-2955, Toll free: (800) 424-4372.

EPA Headquarters: Office of Civil Enforcement, Office of Enforcement and Compliance Assurance, 2100 Pennsylvania Avenue, NW., Washington DC 20460, (202) 564-2220.

During the public comment period, the Consent Decree may also be examined on the following Department of Justice Web site, at http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $33.70 (25 cents per page reproduction cost) payable to the U.S. Treasury or, if by e-mail or fax, forward a check in that amount to the Consent Decree Library at the stated address.

Maureen Katz,
Assistant Section Chief Environmental Enforcement Section, Environment and Natural Resources Division.

[FR Doc. 2010-17600 Filed 7-19-10; 8:45 am]

BILLING CODE 4410-15-P